FEDERAL COMMUNICATIONS COMMISSION

47 CFR Part 73

[DA 02-2506; MB Docket No. 02-316, RM-10542]

Radio Broadcasting Services; Cedar Bluff, VA and Gary, WV

AGENCY: Federal Communications Commission.

ACTION: Proposed rule.

SUMMARY: The Commission requests comments on a petition filed by Monterey Licenses, LLC, proposing the reallotment of Channel 299C3 from Cedar Bluff, Virginia to Gary, West Virginia, and the modification of Station WHQX(FM)'s license accordingly. Channel 299C3 can be reallotted to Gary in compliance with the Commission's minimum distance separation requirements at the petitioner's presently licensed site. The coordinates for Channel 299C3 at Gary are 37-08-00 North Latitude and 81-35-43 West Longitude. In accordance with section 1.420(i) of the Commission's Rules, we will not accept competing expressions of interest for the use of Channel 299C3 at Gary, West Virginia.

DATES: Comments must be filed on or before November 25, 2002, reply comments on or before December 10, 2002.

ADDRESSES: Federal Communications Commission, Washington, DC 20554. In addition to filing comments with the FCC, interested parties should serve the petitioner, or its counsel or consultant, as follows: Paul A. Cicelski, Esq., Shaw Pittman LLP, 2300 N Street, NW., Washington, DC 20037 (Counsel for Petitioner).

FOR FURTHER INFORMATION CONTACT: Sharon P. McDonald, Media Bureau, (202) 418-2180.

SUPPLEMENTARY INFORMATION: This is a synopsis of the Commission's Notice of Proposed Rule Making, MB Docket No. 02-316, adopted September 25, 2002, and released October 4, 2002. The full text of this Commission decision is available for inspection and copying during normal business hours in the FCC Reference Information Center (Room CY-A257), 445 12th Street, SW., Washington, DC. The complete text of this decision may also be purchased from the Commission's copy contractor, Qualex, International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Virginia, is amended by removing Cedar Bluff, Channel 299C3.

3. Section 73.202(b), the Table of FM Allotments under West Virginia, is amended by adding Gary, Channel 299C3.

Federal Communications Commission.
John A. Karousos,
Assistant Chief, Audio Division, Media Bureau.

[FR Doc. 02-26777 Filed 10-21-02; 8:45 am]

BILLING CODE 6712-01-P